DEPARTMENT OF THE TREASURY

Office of Foreign Assets Control

Unblocking of Specially Designated Nationals and Blocked Persons Pursuant to Executive Order 12978

AGENCY: Office of Foreign Assets Control, Treasury.

ACTION: Notice.

SUMMARY: The Department of the Treasury's Office of Foreign Assets Control (“OFAC”) is publishing the names of nine individuals and three entities whose property and interests in property have been unblocked pursuant to Executive Order 12978 of October 21, 1995, “Blocking Assets and Prohibiting Transactions With Significant Narcotics Traffickers”.

DATES: The unblocking and removal from the list of Specially Designated Nationals and Blocked Persons (“SDN List”) of the nine individuals and three entities identified in this notice whose property and interests in property were blocked pursuant to Executive Order 12978 of October 21, 1995, is effective on April 19, 2012.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

This document and additional information concerning OFAC are available from OFAC's Web site (www.treasury.gov/ofac) or via facsimile through a 24-hour fax-on demand service at (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The foreign persons listed in an Annex to the Order; (2) any foreign person determined by the Secretary of Treasury, in consultation with the Attorney General and the Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On April 19, 2012, the Director of OFAC removed from the SDN List the nine individuals and three entities listed below, whose property and interests in property were blocked pursuant to the Order:

Individuals

1. CORREAL GUZMAN, Gloria Ines, c/o GIAMX LTDA., Bogota, Colombia; Cedula No. 51678272 (Colombia) (individual) [SDNT].

2. GRUESO HURTADO, Ximena, c/o INCOMMERCE S.A., Cali, Colombia; DOB 19 Nov 1980; Cedula No. 66968767 (Colombia); Passport 66968767 (Colombia) (individual) [SDNT].

3. LEAL HERNANDEZ, Mauricio, c/o INCOMMERCE S.A., Cali, Colombia; DOB 24 Nov 1974; Cedula No. 94429420 (Colombia); Passport 94429420 (Colombia) (individual) [SDNT].

4. ORTIZ PALACIOS, Willington Alfonso (a.k.a. ORTIZ PALACIO, Willington Alfonso), Calle 5 No. 25-65, Cali, Colombia; Carrera 62 Bis No. 6A, Cali, Colombia; Avenida 5AN No. 23D-68 piso 2 L-113, Cali, Colombia; c/o CREACIONES DEPORTIVAS WILLINGTON LTDA., Cali, Colombia; Cedula No. 19159807 (Colombia); Passport AF582577 (Colombia) (individual) [SDNT].

5. PINZON CEDIEL, John Jairo, c/o TAURA S.A., Cali, Colombia; Cedula No. 13542013 (Colombia) (individual) [SDNT].

6. RODRIGUEZ CONRADO, Elmer Martin, c/o COPSERVIR LTDA., Bogota, Colombia; c/o LITOPHARMA, Barranquilla, Colombia; Cedula No. 8773134 (Colombia) (individual) [SDNT].

7. YEPES ALZATE, Milady, c/o OBURSATILES S.A., Cali, Colombia; DOB 9 Jan 1968; Cedula No. 31971236 (Colombia); Passport 31971236 (Colombia) (individual) [SDNT].

8. ARISTIZABAL ATEHORTUA, Jaime Alberto, c/o INVERSIONES MIGUEL RODRIGUEZ E HIJO, Cali, Colombia; c/o RADIO UNIDAS FM S.A., Cali, Colombia; c/o REVISTA DEL AMERICA LTDA., Cali, Colombia; c/o COLOR 89.5 FM STEREO, Cali, Colombia; c/o DERECHO INTEGRAL Y CIA. LTDA., Cali, Colombia; DOB 11 Oct 1968; Cedula No. 16756325 (Colombia) (individual) [SDNT].

9. AVILA DE MONDRAGON, Ana Dolores, c/o COMPAX LTDA., Cali, Colombia; c/o INVERSIONES Y CONSTRUCCIONES COSMOVALLE LTDA., Cali, Colombia; c/o INVERSIONES Y CONSTRUCCIONES ABC S.A., Cali, Colombia; DOB 22 Dec 1911; Cedula No. 29183223 (Colombia) (individual) [SDNT].

Entities

1. APOYOS DIAGNOSTICOS S.A. (a.k.a. APOYOS DIAGNOSTICOS DE OCCIDENTE S.A.; f.k.a. UNIDAD DE DIAGNOSTICO MEDICO ESPECIALIZADO LTDA.; f.k.a. “UNIDES LTDA.”), Calle 26 No. 34-60, Tulua, Valle, Colombia; NIT #800118755-2 (Colombia) [SDNT].

2. CLINICA SAN FRANCISCO S.A. (f.k.a. CLINICA DE OCCIDENTE TULUA S.A.; f.k.a. CLINICA NUESTRA SENORA DE FATIMA S.A.), Calle 26 No. 34-60, Tulua, Valle, Colombia; NIT #800191916-1 (Colombia) [SDNT].

3. CREACIONES DEPORTIVAS WILLINGTON LTDA., Cosmocentro, Local 130, Cali, Colombia; Calle 5 No. 25-65, Cali, Colombia [SDNT].

Dated: April 19, 2012.
Adam J. Szubin,
Director, Office of Foreign Assets Control.

[FR Doc. 2012-9854 Filed 4-27-12; 8:45 am]

BILLING CODE 4810-AL-P